DEPARTMENT OF THE INTERIOR

Bureau of Land Management

[LLNMP2000 L14300000.FQ0000 NMNM-127501/NMNM-83404]

Public Land Order No. 7844; Withdrawal of Public Lands and Reserved Federal Minerals To Protect Highly Significant Caves; New Mexico

AGENCY: Bureau of Land Management, Interior.

ACTION: Public Land Order.

SUMMARY: This order withdraws approximately 2,924.65 acres of public lands and 440 acres of reserved Federal minerals underlying non-Federal lands from location and entry under the United States mining laws, subject to valid existing rights, for 20 years to protect and preserve highly significant caves and their associated resources located in Eddy County. The lands have been and will remain open to leasing under the mineral leasing laws.

DATES: Effective Date: December 8, 2015.

FOR FURTHER INFORMATION CONTACT: Debby Lucero, Bureau of Land Management, New Mexico State Office, 505-954-2196. Persons who use a telecommunications device for the deaf (TDD) may call the Federal Information Relay Service (FIRS) at 1-800-877-8339 to reach the BLM contact person. The FIRS is available 24 hours a day, 7 days a week, to leave a message or question with the above individual. You will receive a reply during normal business hours.

SUPPLEMENTARY INFORMATION: The Bureau of Land Management will manage the lands to protect highly significant cave locations and their associated resources located within Eddy County. The caves contain highly significant archaeological, paleontological, biological, geological, mineralogical, hydrological, and scenic values. These caves represent the very best examples of the above-stated resources on Bureau of Land Management administered land in this region. There are over 300 known caves in the area and many more are suspected.

Order

By virtue of the authority vested in the Secretary of the Interior by Section 204 of the Federal Land Policy and Management Act of 1976, 43 U.S.C. 1714, it is ordered as follows:

1. Subject to valid existing rights, the following described public lands and Federally reserved minerals are hereby withdrawn from location and entry under the United States mining laws, but not from leasing under the mineral leasing laws, to protect highly significant caves and their associated resources:

New Mexico Principal Meridian

McKittrick Hill Caves

T. 22 S., R. 24 E.,

Sec.14, S½SW¼, SW¼SE¼, and W½SE¼SE¼;

Sec. 22, S½SW¼NE¼, SE¼NE¼, SE¼SE¼NW¼, E½E½SW¼, and SE¼;

Sec. 23, W½, W½E½, and W½E½E½;

Sec. 26, W½NE¼NE¼, NW¼NE¼, and N½NW¼;

Sec. 27, N½NE¼ and E½NE¼NW¼.

The area described contains 1,210 acres.

Mudgetts/Little Mudgetts Caves

T. 24 S., R. 24 E.,

Sec. 21, SE¼SW¼NW¼, SW¼SE¼NW¼, N½NE¼SW¼, and NE¼NW¼SW¼.

The area described contains 50 acres.

Big Manhole/Little Manhole Caves

T. 24 S., R. 24 E.,

Sec. 22, W½NE¼SW¼, E½SW¼SW¼, SE¼SW¼, and W½SW¼SE¼.

The area described contains 100 acres.

Honest Injun Cave

T. 22 S., R. 25 E.,

Sec. 28, lot 6.

The area described contains 42.70 acres.

Yellow Jacket and Lair Caves

T. 23 S., R. 25 E.,

Sec. 14, S½SE¼SW¼ and S½S½SE¼;

Sec. 23, NE¼ and NE¼NW¼.

The area described contains 260 acres.

KFF (Elliott's) Cave

T. 24 S., R. 25 E.,

Sec. 23, SE¼NE¼SE¼ and E½SE¼SE¼;

Sec. 24, W½NE¼SW¼, NW¼SW¼, N½SW¼SW¼, SW¼SW¼SW¼, and NW¼SE¼SW¼.

The area described contains 130 acres.

Chosa Draw Caves

T. 25 S., R. 25 E.,

Sec. 20, E½SE¼;

Sec. 21, S½ and S½SE¼NE¼;

Sec. 22, SW¼SW¼NW¼ and W½W½SW¼;

Sec. 27, W½NW¼NW¼;

Sec. 28, E½NE¼;

Sec. 29, E½NE¼, E½W½NE¼, NE¼SE¼, and E½NW¼SE¼.

The area described contains 750 acres.

Lost Cave

T. 22 S., R. 26 E.,

Sec. 22, NE¼NE¼NE¼ and N½SE¼NE¼NE¼;

Sec. 23, W½NW¼NW¼NW¼ and NW¼SW¼NW¼NW¼.

The area described contains 22.50 acres.

Fence Canyon Cave Area

T. 24 S., R. 26 E.,

Sec. 17, NW¼NW¼;

Sec. 18, lot 3, E½NE¼NE¼, S½NE¼, SE¼NW¼, NE¼SW¼, N½SE¼SW¼, and N½SE¼.

The area described contains 359.45 acres.

The following described federally reserved minerals underlying non-Federal surface:

Chosa Draw Caves

T. 25 S., R. 25 E.,

Sec. 28, NW¼NE¼, W½, and W½SE¼.

The areas described aggregate 440 acres.

The total areas described above aggregate 2,924.65 acres of public lands and 440 acres of Federal minerals underlying non-Federal lands in Eddy County.

2. The withdrawal made by this order does not alter the applicability of the public land laws other than the mining laws.

3. This withdrawal will expire 20 years from the effective date of this order unless, as a result of a review conducted before the expiration date pursuant to section 204(f) of the Federal Land Policy and Management Act of 1976, 43 U.S.C. 1714(f), the Secretary determines that the withdrawal shall be extended.

Dated: November 23, 2015.
Janice M. Schneider,
Assistant Secretary—Land and Minerals Management.

[FR Doc. 2015-30899 Filed 12-7-15; 8:45 am]

BILLING CODE 4310-HC-P